DEPARTMENT OF AGRICULTURE

Forest Service

North Belts Travel Plan Projects, Helena National Forest, Lewis & Clark and Broadwater Counties, Montana

AGENCY: Forest Service, USDA.

ACTION: Cancellation notice.

SUMMARY: On May 8, 2001, a Notice of Intent (NOI) to prepare an environmental impact statement for the North Belts Travel Plan Project on the Helena and Townsend Ranger Districts of the Helena National Forest, was published in the Federal Register (66 FR 23230). The NOI is hereby rescinded due to changed resource conditions.

FOR FURTHER INFORMATION CONTACT: Beth Ihle, Project Leader, 415 S. Front, Townsend, MT 59644, phone 406-266-3425.

Dated: January 30, 2003.
Dwight Chambers,
Acting Forest Supervisor.

[FR Doc. 03-2653 Filed 2-4-03; 8:45 am]

BILLING CODE 3410-11-M